DEPARTMENT OF COMMERCE

International Trade Administration

The Manufacturing Council: Meeting of The Manufacturing Council

AGENCY: International Trade Administration, U.S. Department of Commerce.

ACTION: Notice of public meeting.

SUMMARY: The Manufacturing Council will hold a full Council meeting to discuss topics related to the state of manufacturing. The Manufacturing Council is a Secretarial Board at the Department of Commerce, established to ensure regular communication between Government and the manufacturing sector. This will be the fourth meeting of The Manufacturing Council and will include updates by the Council's three subcommittees. For information about the Council, please visit the Manufacturing Council Web site at: http://www.manufacturing.gov/council.htm.

DATES: May 11, 2005.

Time: 10:15 a.m.

ADDRESSES: 311 Cannon House Office Building, Washington, DC 20515. This program is physically accessible to people with disabilities. Requests for sign language interpretation or other auxiliary aids should be submitted no later than May 4, 2005, to The Manufacturing Council, Room 4043, Washington, DC 20230.

FOR FURTHER INFORMATION CONTACT: The Manufacturing Council Executive Secretariat, Room 4043, Washington, DC 20230 (Phone: 202-482-1369). The Executive Secretariat encourages interested parties to refer to The Manufacturing Council Web site (http://www.manufacturing.gov/council/) for the most up-to-date information about the meeting and the Council.

Dated: April 22, 2005.
Sam Giller,
Executive Secretary, The Manufacturing Council.

[FR Doc. 05-8492 Filed 4-26-05; 8:45 am]

BILLING CODE 3510-DR-P